DEPARTMENT OF VETERANS AFFAIRS

Advisory Committee on Former Prisoners of War; Notice of Meeting

The Department of Veterans Affairs (VA) gives notice under Public Law 92-463 (Federal Advisory Committee Act) that a meeting of the Advisory Committee on Former Prisoners of War (FPOW) will be held on October 12-14, 2004, in the Basement Conference Room, at the VA Boston Healthcare System, 150 South Huntington Avenue, Boston, MA 02130. Each day, the meeting will convene at 9 a.m. and end at 4:30 p.m. The meeting is open to the public.

The purpose of the Committee is to advise the Secretary of Veterans Affairs on the administration of benefits under Title 38, United States Code, for veterans who are former prisoners of war and to make recommendations on the needs of such veterans for compensation, health care, and rehabilitation.

The agenda for October 12 consists of an introduction of Committee members, remarks from dignitaries, a review of Committee reports, an update of activities since the last meeting, and time for FPOW veterans and/or the public to address the committee. The Chairman of the FPOW presumptive workgroup will provide a status report on the recommendations made to the Secretary. The agenda for October 13 includes reports on the progress of the VA FPOW Case Management training and the progress of the Special FPOW Care and Benefits Teams. The Director of the Robert E. Mitchell Center for Prisoners of War Studies will provide an update on center activities. The Committee will discuss the VA's responses to the Committee's previous recommendations. The Committee will also hear presentations on activities in Veterans Health Administration VISN 1 Network. The day will conclude with new business and general discussion. On October 14, the Committee's medical and administrative work groups will meet separately to discuss their new recommendations and report to the Committee Chairman. Additionally, the Committee will analyze the comments discussed throughout the meeting for the development of a final report for the Secretary.

Members of the public may direct questions or submit written statements for review by the Committee in advance of the meeting to Renée L. Szybala, Director, Compensation and Pension Service (21), Department of Veterans Affairs, 810 Vermont Avenue, NW., Washington, DC 20420.

Dated: September 20, 2004.
By Direction of the Secretary.
E. Philip Riggin,
Committee Management Officer.

[FR Doc. 04-21543 Filed 9-24-04; 8:45 am]

BILLING CODE 8320-01-M